NUCLEAR REGULATORY COMMISSION

[Docket No. 50-133; NRC-2013-0187]

Pacific Gas and Electric Company, Humboldt Bay Power Plant, Unit 3, Notice of Public Meeting on the License Termination Plan; Correction

AGENCY: Nuclear Regulatory Commission.

ACTION: Application for license amendment; public meeting; correction.

SUMMARY: The U.S. Nuclear Regulatory Commission (NRC) is correcting a notice that was published in the Federal Register on August 7, 2013 (78 FR 48203), that provided notice that the NRC staff will conduct a public meeting to discuss and accept public comments on the Humboldt Bay Power Plant, Unit 3, License Termination Plan. This document is necessary to correct an incorrect NRC Docket ID appearing in the heading of the notice.

FOR FURTHER INFORMATION CONTACT: Cindy Bladey, Chief, Rules, Announcements, and Directives Branch, Office of Administration, Nuclear Regulatory Commission, Washington, DC 20555-0001, telephone: 301-287-0949; email: Cindy.Bladey@nrc.gov.

Correction

In the Federal Register (FR) on August 7, 2013, in FR Doc. 2013-19054, on page 48203, the NRC Docket ID in the heading is corrected to read “[Docket No. 50-133; NRC-2013-0187].”

Dated at Rockville, Maryland, this 9th day of August 2013.
For the Nuclear Regulatory Commission.
Cindy Bladey,
Chief, Rules, Announcements, and Directives Branch, Division of Administrative Services, Office of Administration.

[FR Doc. 2013-19784 Filed 8-14-13; 8:45 am]

BILLING CODE 7590-01-P